DEPARTMENT OF COMMERCE

National Oceanic and Atmospheric Administration

Proposed Information Collection; Comment Request; Information for Share Transfer in the Wreckfish Fishery

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 5, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Rich Malinowski, (727) 824-5305 or rich.malinowski@noaa.gov.

SUPPLEMENTARY INFORMATION:

I. Abstract

The National Marine Fisheries Service (NMFS) Southeast Region manages the wreckfish fishery of the Exclusive Economic Zone (EEZ) in or from the South Atlantic under the Fishery Management Plan for Snapper-Grouper (FMP). The FMP was prepared by the South Atlantic Fishery Management Council and is implemented through regulations at 50 CFR Part 622 under the authority of the Magnuson-Stevens Conservation and Management Act.

The recordkeeping and reporting requirements at 50 CFR Part 622 form the basis for this collection of information. NMFS Southeast Region requests, from participating wreckfish participants, information necessary to transfer ownership of percentage shares. The information collected includes the percentage of the shares transferred, dollar value of the transfer and the name, address, and employer identification number of the transfer recipient. This information, upon receipt, results in an increasingly more efficient and accurate database for management and monitoring of the wreckfish fishery in or from the South Atlantic EEZ.

II. Method of Collection

Paper applications, electronic reports, and telephone calls are required from participants, and methods of submittal include Internet and facsimile transmission of paper forms.

III. Data

OMB Control Number: 0648-0262.

Form Number: None.

Type of Review: Regular submission.

Affected Public: Non-profit institutions; business or other for-profit organizations.

Estimated Number of Respondents: 4.

Estimated Time per Response: 15 minutes per transfer.

Estimated Total Annual Burden Hours: 1.

Estimated Total Annual Cost to Public: $162 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2009.
Gwellnar Banks,
Management Analyst, Office of the Chief Information Officer.

[FR Doc. E9-18671 Filed 8-4-09; 8:45 am]

BILLING CODE 3510-22-P